DEPARTMENT OF ENERGY

Federal Energy Regulatory Commission

Notice of Effectiveness of Exempt Wholesale Generator Status

RE Camelot LLC | EG14-29-000
Windthorst-2, LLC | EG14-30-000
Spinning Spur Wind Two, LLC | EG14-31-000
Copper Mountain Solar 3, LLC | EG14-32-000
Campo Verde Solar, LLC | EG14-33-000
Lone Valley Solar Park I LLC | EG14-34-000
Lone Valley Solar Park II LLC | EG14-35-000

Take notice that during the month of May 2014, the status of the above-captioned entities as Exempt Wholesale Generators Companies became effective by operation of the Commission's regulations. 18 CFR 366.7(a).

Dated: June 6, 2014.
Kimberly D. Bose,
Secretary.

[FR Doc. 2014-13730 Filed 6-11-14; 8:45 am]

BILLING CODE 6717-01-P